DEPARTMENT OF THE INTERIOR

National Park Service

[2253-665]

Notice of Inventory Completion: Thomas Burke Memorial Washington State Museum, University of Washington, Seattle, WA

AGENCY: National Park Service, Interior.

ACTION: Notice.

SUMMARY: The Thomas Burke Memorial Washington State Museum (Burke Museum) has completed an inventory of human remains and associated funerary objects, in consultation with the appropriate Indian Tribes, and has determined that there is a cultural affiliation between the human remains and associated funerary objects and present-day Indian Tribes. Representatives of any Indian Tribe that believes itself to be culturally affiliated with the human remains and associated funerary objects may contact the Burke Museum. Repatriation of the human remains and associated funerary objects to the Indian Tribes stated below may occur if no additional claimants come forward.

DATES: Representatives of any Indian Tribe that believes it has a cultural affiliation with the human remains and associated funerary objects should contact the Burke Museum at the address below by October 19, 2011.

ADDRESSES: Peter Lape, Burke Museum, University of Washington, Box 353010, Seattle, WA 98195-3010, telephone (206) 685-3849.

SUPPLEMENTARY INFORMATION: Notice is here given in accordance with the Native American Graves Protection and Repatriation Act (NAGPRA), 25 U.S.C. 3003, of the completion of an inventory of human remains and associated funerary objects in the possession of the Burke Museum, University of Washington, Seattle, WA. The human remains and associated funerary objects were removed from Grant County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Burke Museum professional staff in consultation with representatives of the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho (hereinafter “The Tribes”). The Burke Museum also consulted with the Wanapum Band, a non-Federally recognized Indian group (hereinafter “The Indian Group”).

History and Description of the Remains

In 1920, human remains were removed by Dr. F.S. Hall of the Washington State Museum from the Pot Holes site or Hall Site #7 (later assigned 45-GR-131) located on the east bank of the Columbia River, south of Trinidad, Grant County, WA. The human remains were accessioned by the museum in November 1920 (Burke Accn. #1860). In 1974, the Burke Museum legally transferred portions of the human remains to Central Washington University. In 2007, a Notice of Inventory Completion (NIC) describing 35 individuals and 685 associated funerary objects removed from the Pot Hole site was published in the Federal Register [72 FR 52391-52392, September 13, 2007]. The Burke Museum and Central Washington University have jointly repatriated these human remains and funerary objects to the culturally affiliated Tribes listed in the NIC. In 2010, the Burke Museum found an additional two individuals and two associated funerary objects from the Pot Hole site during an inventory of the University of Washington, Department of Anthropology Collections. No known individuals were identified. The two associated funerary objects are one lot of bones (non-human) and one unmodified rock.

Early and late published ethnographic documentation indicates that the Pot Hole site is located in the aboriginal territory of the Moses-Columbia or Sinkiuse, and the Yakima (Daugherty 1973, Miller 1998, Mooney 1896, Ray 1936, Spier 1936) whose descendents are represented today by the Confederated Tribes of the Colville Reservation, Washington, and the Confederated Tribes and Bands of the Yakama Nation, Washington. Furthermore, information provided during consultation indicates that the aboriginal ancestors occupying this area were highly mobile and traveled the landscape for gathering resources as well as trade. Descendents of these Plateau communities are now widely dispersed and enrolled in the two Tribes mentioned above, as well as the Nez Perce Tribe, Idaho; Confederated Tribes of the Umatilla Indian Reservation, Oregon; Confederated Tribes of the Warm Springs Reservation of Oregon; and the Wanapum Band, a non-Federally recognized Indian group. Museum documentation indicates that the cultural items were found in connection with the human remains. The cultural items are consistent with cultural items typically found in context with burials in eastern Washington.

Determinations Made by the Burke Museum

Officials of the Burke Museum have determined that:

• Pursuant to 25 U.S.C. 3001(9), the human remains described in this notice represent the physical remains of two individuals of Native American ancestry.

• Pursuant to 25 U.S.C. 3001(3)(A), the two objects described above are reasonably believed to have been placed with or near individual human remains at the time of death or later as part of the death rite or ceremony.

• Pursuant to 25 U.S.C. 3001(2), there is a relationship of shared group identity that can be reasonably traced between the Native American human remains and associated funerary objects and The Tribes and The Indian Group.

Additional Requestors and Disposition

Representatives of any Indian Tribe that believes itself to be culturally affiliated with the human remains and associated funerary objects should contact Peter Lape, Burke Museum, University of Washington, Box 35101, Seattle, WA 98195, telephone (206) 685-3849, before October 19, 2011. Repatriation of the human remains and associated funerary objects to The Tribes and The Indian Group may proceed after that date if no additional claimants come forward.

The Burke Museum is responsible for notifying The Tribes and The Indian Group that this notice has been published.

Dated: September 13, 2011.
Sherry Hutt,
Manager, National NAGPRA Program.

[FR Doc. 2011-23900 Filed 9-16-11; 8:45 am]

BILLING CODE 4312-50-P